DEPARTMENT OF TRANSPORTATION

Federal Aviation Administration

14 CFR Part 39

[Docket No. FAA-2024-2547; Project Identifier AD-2024-00334-E; Amendment 39-22987; AD-2025-05-15]

RIN 2120-AA64

Airworthiness Directives; General Electric Company Engines

AGENCY: Federal Aviation Administration (FAA), DOT.

ACTION: Final rule.

SUMMARY: The FAA is adopting a new airworthiness directive (AD) for all General Electric Company (GE) Model CT7-2E1 engines. This AD was prompted by a revised analysis using an updated stress model, which calculated that the actual life limit of the CT7-2E1 stage 2 turbine aft cooling plate is less than the current life limit. This AD requires revision of the airworthiness limitations section (ALS) of the existing CT7-2E1 engine maintenance manual (EMM) and the operator's existing approved maintenance program or inspection program, as applicable, to incorporate a reduced life limit for this part. The FAA is issuing this AD to address the unsafe condition on these products.

DATES: This AD is effective April 17, 2025.

ADDRESSES:

AD Docket: You may examine the AD docket at regulations.gov under Docket No. FAA-2024-2547; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Barbara Caufield, Aviation Safety Engineer, FAA, 2200 South 216th Street, Des Moines, WA 98198 ; phone: (781) 238-7146; email: barbara.caufield@faa.gov.

SUPPLEMENTARY INFORMATION:

Background

The FAA issued a notice of proposed rulemaking (NPRM) to amend 14 CFR part 39 by adding an AD that would apply to all GE Model CT7-2E1 engines. The NPRM published in the Federal Register on December 5, 2024 (89 FR 96618). The NPRM was prompted by a revised analysis using an updated stress model, which calculated that the actual life limit of the GE Model CT7-2E1 engine stage 2 turbine aft cooling plate is less than the current life limit. In the NPRM, the FAA proposed to require revision of the ALS of the existing CT7-2E1 EMM and the operator's existing approved maintenance program or inspection program, as applicable, to incorporate a reduced life limit for the stage 2 turbine aft cooling plate part number 5166T27P01. The FAA is issuing this AD to address the unsafe condition on these products.

Discussion of Final Airworthiness Directive

Comments

The FAA received no comments on the NPRM or on the determination of the costs.

Conclusion

The FAA reviewed the relevant data and determined that air safety requires adopting this AD as proposed. Accordingly, the FAA is issuing this AD to address the unsafe condition on these products. Except for minor editorial changes, this AD is adopted as proposed in the NPRM.

Costs of Compliance

The FAA estimates that this AD affects eight CT7-2E1 engines installed on airplanes of U.S. registry.

The FAA estimates the following costs to comply with this AD:

Estimated Costs
Action | Labor cost | Parts cost | Cost per product | Cost on U.S. operators
Revise the ALS | 1 work-hour × $85 per hour = $85 | $0 | $85 | $680

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(f), 40113, 44701.

§ 39.13 [Amended]

2. The FAA amends § 39.13 by adding the following new airworthiness directive:

2025-05-15 General Electric Company: Amendment 39-22987; Docket No. FAA-2024-2547; Project Identifier AD-2024-00334-E.

(a) Effective Date

This airworthiness directive (AD) is effective April 17, 2025.

(b) Affected ADs

None.

(c) Applicability

This AD applies to General Electric Company (GE) Model CT7-2E1 engines.

(d) Subject

Joint Aircraft System Component (JASC) Code 7200, Engine (Turbine/Turboprop).

(e) Unsafe Condition

This AD was prompted by a revised analysis using an updated stress model, which calculated that the actual life limit of the CT7-2E1 stage 2 turbine aft cooling plate is less than the current life limit. The FAA is issuing this AD to prevent failure of the stage 2 aft turbine cooling plate. The unsafe condition, if not addressed, could result in an uncontained failure, release of high-energy debris, damage to the engine, damage to the airplane, and loss of the airplane.

(f) Compliance

Comply with this AD within the compliance times specified, unless already done.

(g) Required Actions

Within 30 days after the effective date of this AD, revise the airworthiness limitations section of the existing engine maintenance manual or instructions for continued airworthiness, and the operator's existing approved maintenance program or inspection program, as applicable, by replacing the 6,100 cycle life limit with the new life limit of 3,100 cycles for the stage 2 aft turbine cooling plate part number 5166T27P01.

(h) Provisions for Alternative Actions or Intervals

After the action required by paragraph (g) of this AD has been done, no alternative actions, including life limits, are allowed unless they are approved as specified in the provisions of paragraph (i) of this AD.

(i) Alternative Methods of Compliance (AMOCs)

(1) The Manager, AIR-520 Continued Operational Safety Branch, FAA, has the authority to approve AMOCs for this AD, if requested using the procedures found in 14 CFR 39.19. In accordance with 14 CFR 39.19, send your request to your principal inspector or local Flight Standards District Office, as appropriate. If sending information directly to the manager of the AIR-520 Continued Operational Safety Branch, send it to the attention of the person identified in paragraph (j) of this AD. Information may be emailed to: AMOC@faa.gov.

(2) Before using any approved AMOC, notify your appropriate principal inspector, or lacking a principal inspector, the manager of the local flight standards district office/certificate holding district office.

(j) Additional Information

For more information about this AD, contact Barbara Caufield, Aviation Safety Engineer, FAA, 2200 South 216th Street, Des Moines, WA 98198; phone: (781) 238-7146; email: barbara.caufield@faa.gov.

(k) Material Incorporated by Reference

None.

Issued on March 7, 2025.
Peter A. White,
Deputy Director, Integrated Certificate Management Division, Aircraft Certification Service.

[FR Doc. 2025-03987 Filed 3-12-25; 8:45 am]

BILLING CODE 4910-13-P